DEPARTMENT OF HOMELAND SECURITY

U.S. Citizenship and Immigration Services

Agency Information Collection Activities: Revision of Existing Collection; Comment Request.

ACTION: Request OMB 60-Day Emergency Approval: Application for Authorization to Issue Certification for Health Care Workers and Related Requirements; Form I-905.

The Department of Homeland Security (DHS) and the U.S. Citizenship and Immigration Services (CIS) has submitted an emergency information collection request (ICR) utilizing emergency review procedures, to the Office of Management and Budget (OMB) for review and clearance in accordance with section 1320.13(a)(1)(ii) and (a)(2)(iii) of the Paperwork Reduction Act of 1995. The DHS has determined that it cannot reasonably comply with the normal clearance procedures under this part because normal clearance procedures are reasonably likely to prevent or disrupt the collection of information under OMB 1615-0062, Certificates for Health Care Workers. Therefore, immediate OMB approval has been requested. If granted, the emergency approval is only valid for 90 days. ALL comments and/or questions pertaining to this pending request for emergency approval MUST be directed to OMB, Office of Information and Regulatory Affairs, Attention: Desk Officer, Department of Homeland Security, 725-17th Street, NW., Suite 10235, Washington, DC 20503; 202-395-5806.

Written comments and suggestions from the public and affected agencies concerning the proposed collection of information should address one or more of the following four points:

1. Evaluate whether the proposed collection of information is necessary for the proper performance of the functions of the agency, including whether the information will have practical utility;

2. Evaluate the accuracy of the agencies estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of this information collection:

1. Type of Information Collection: Revision of a currently approved collection.

2. Title of the Form/Collection: Application for Authorization to Issue Certification for Health Care Workers and Related Requirements.

3. Agency form number, if any, and the applicable component of the Department of Homeland Security sponsoring the collection: Form I-905. Business and Trade Services, Program and Regulations Development, U.S. Citizenship and Immigration Services.

4. Affected public who will be asked or required to respond, as well as a brief abstract: Primary: Not-for-profit institutions. The data collected on this form is used by CIS to determine eligibility of an organization to issue certificates to foreign health care workers. It also provides the requirements for the data that shall be displayed on all health care certificates that will be used by a benefit granting agency. The information must be contained on each certificate issued by a certifying body in order for the certificate to be valid. This data requirement was established under control number 1615-0062. That information collection was published as an Information Collection Request (no agency form) at 68 FR 43901 (Final rule: Certificates for Certain Health Care Workers, July 25, 2003).

5. An estimate of the total number of respondents and the amount of time estimated for an average respondent to respond: 21,010 responses at 7.6 hours per response. This number includes the anticipated amount of certificates that will be issued by a benefit granting agency as the information collection now includes the requirements that must be met in order for a certificate to be valid.

6. An estimate of the total public burden (in hours) associated with the collection: 37,280 annual burden hours. This number is increased as explained in item 5 above.

7. Other Information: This submission combines the information collection previously approved under OMB control number 1615-0062 and Form I-905 (OMB control number 1615-0086).

If you have additional comments, suggestions, or need a copy of the revised information collection instrument, please contact Richard A. Sloan, Director, U.S. Citizenship and Immigration Services, 111 Massachusetts Avenue, NW., Washington, DC 20529, Attn: Bahar Sadjadi at: (202) 272-8354.

Dated: September 28, 2005.
Richard A. Sloan,
Director, Regulatory Management Division, U.S. Citizenship and Immigration Services.

[FR Doc. 05-19720 Filed 9-28-05; 1:17 pm]

BILLING CODE 4410-10-P